DEPARTMENT OF HEALTH AND HUMAN SERVICES

National Institutes of Health

National Human Genome Research Institute; Amended Notice of Meeting

Notice is hereby given of a change in the meeting of the National Advisory Council for Human Genome Research, February 10, 2025, 9 a.m. to February 11, 2025, 5 p.m., National Institutes of Health, Capital Gateway Building, 6700B Rockledge Drive, Room 1100, Bethesda, MD 20892 which was published in the Federal Register on January 10, 2025, 90 FR 2710.

Amendment to change the start time of the open session from 10 a.m. to 11:30 a.m. The meeting is partially closed to the public.

Dated: January 14, 2025.
David W. Freeman,
Supervisory Program Analyst, Office of Federal Advisory Committee Policy.

[FR Doc. 2025-01327 Filed 1-17-25; 8:45 am]

BILLING CODE 4140-01-P